ENVIRONMENTAL PROTECTION AGENCY

40 CFR Parts 60 and 63

[EPA-HQ-OAR-2009-0234; EPA-HQ-OAR-2011-0044; FRL-9733-2]

RIN 2060-AR62

Reconsideration of Certain New Source and Startup/Shutdown Issues: National Emission Standards for Hazardous Air Pollutants From Coal- and Oil-Fired Electric Utility Steam Generating Units and Standards of Performance for Fossil-Fuel-Fired Electric Utility, Industrial-Commercial-Institutional, and Small Industrial-Commercial-Institutional Steam Generating Units

Correction

Proposed rule document 2012-28729, appearing on pages 71323-71344 in the issue of Friday, November 30, 2012, should have appeared in the Proposed Rules section of the issue.

[FR Doc. C1-2012-28729 Filed 12-4-12; 8:45 am]

BILLING CODE 1505-01-D